COMMITTEE FOR THE IMPLEMENTATION OF TEXTILE AGREEMENTS

Denial of a Commercial Availability Request under the African Growth and Opportunity Act (AGOA)

May 5, 2006.

AGENCY: The Committee for the Implementation of Textile Agreements (CITA).

ACTION: Denial of the request alleging that certain cotton/cashmere yarn cannot be supplied by the domestic industry in commercial quantities in a timely manner under the AGOA.

SUMMARY: On March 6, 2006, the Chairman of CITA received a petition from Shibani Inwear alleging that a certain combed and ring-spun yarn, of a 92-percent cotton and 8-percent cashmere blend, comprised of 2/32 Nm resulting in a 16 Nm yarn size, classified in subheading 5205.42.00.20 of the Harmonized Tariff Schedule of the United States (HTSUS), cannot be supplied by the domestic industry in commercial quantities in a timely manner. The petition requested that men's knit sweaters made of such yarn be eligible for preferential treatment under the AGOA. CITA has determined that the subject yarn can be supplied by the domestic industry in commercial quantities in a timely manner and, therefore, denies the request.

FOR FURTHER INFORMATION CONTACT: Anna Flaaten, International Trade Specialist, Office of Textiles and Apparel, U.S. Department of Commerce, (202) 482-3400.

SUPPLEMENTARY INFORMATION:

Authority: Section 112(b)(5)(B) of the AGOA; Presidential Proclamation 7350 of October 2, 2000; Section 1 of Executive Order No. 13191 of January 17, 2001.

Background:

The AGOA provides for quota- and duty-free treatment for qualifying textile and apparel products. Such treatment is generally limited to products manufactured from yarns and fabrics formed in the United States or a beneficiary country. The AGOA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271), CITA has been delegated the authority to determine whether yarns or fabrics cannot be supplied by the domestic industry in commercial quantities in a timely manner under the AGOA. On March 6, 2001, CITA published procedures that it will follow in considering requests (66 FR 13502).

On March 6, 2006, the Chairman of CITA received a petition from Shibani Inwear alleging that a certain combed and ring-spun yarn, of a 92-percent cotton and 8-percent cashmere blend, comprised of 2/32 Nm resulting in a 16 Nm yarn size, classified in HTSUS subheading 5205.42.00.20, cannot be supplied by the domestic industry in commercial quantities in a timely manner. The petition requested that men's knit sweaters made of such yarn be eligible for preferential treatment under the AGOA.

On March 15, 2006, CITA published a notice in the Federal Register requesting public comments on the petition (71 FR 13359), particularly with respect to whether this yarn can be supplied by the domestic industry in commercial quantities in a timely manner. On March 31, 2006, CITA and USTR offered to hold consultations with the House Ways and Means Committee and the Senate Finance Committee, but no consultations were requested. We also requested advice from the U.S. International Trade Commission (ITC) and the relevant Industry Trade Advisory Committees.

Based on the information and advice CITA received, public comments, and the report from the ITC, CITA found that there is domestic capacity and ability to supply the subject yarn in commercial quantities in a timely manner. North Carolina Spinning Mills currently makes cashmere blend yarns and can supply the subject yarn in the quantities specified by the petitioner.

On the basis of currently available information and our review of this request, CITA has determined that there is domestic capacity to supply the subject yarn in commercial quantities in a timely manner. The request from Shibani Inwear is denied.

James C. Leonard III,
Chairman, Committee for the Implementation of Textile Agreements.

[FR Doc. E6-7226 Filed 5-10-06; 8:45 am]

BILLING CODE 3510-DS